DEPARTMENT OF HEALTH AND HUMAN SERVICES

National Institutes of Health

National Cancer Institute; Amended Notice of Meeting

Notice is hereby given of a change in the meeting of the Subcommittee J—Career Development, October 24, 2013, 8:00 a.m. to October 25, 2013, 6:00 p.m., National Cancer Institute Shady Grove, West Tower, 9609 Medical Center Drive, 7W032-24th & 7W30-25th, Rockville, MD, 20850 which was published in the Federal Register on August 16, 2013, 78FR50065.

Due to the absence of either an FY 2014 appropriation or Continuing Resolution for the Department of Health & Human Services, the meeting is rescheduled for November 14, 2013 from 8:00 a.m. to 6:00 p.m. and the location remains the same, however the room has changed to 4E032. The meeting is closed to the public.

Dated: October 25, 2013.
David Clary,
Program Analyst, Office of Federal Advisory Committee Policy.

[FR Doc. 2013-25744 Filed 10-29-13; 8:45 am]

BILLING CODE 4140-01-P